DEPARTMENT OF HEALTH AND HUMAN SERVICES

Food and Drug Administration

[Docket No. FDA-2009-N-0664]

Neurological Devices Panel of the Medical Devices Advisory Committee; Notice of Postponement of Meeting

AGENCY: Food and Drug Administration, HHS.

ACTION: Notice.

SUMMARY: The Food and Drug Administration (FDA) is postponing the meeting of the Neurological Devices Panel of the Medical Devices Advisory Committee scheduled for November 20, 2009. This meeting was announced in the Federal Register of October 16, 2009 (74 FR 53274). The postponement is due to a scheduling conflict. A future meeting date will be announced in the Federal Register.

FOR FURTHER INFORMATION CONTACT: Deborah Falls, Center for Devices and Radiological Health, Food and Drug Administration, 10903 New Hampshire Ave., Silver Spring, MD 20993, 301-796-5620, or FDA Advisory Committee Information Line, 1-800-741-8138 (301-443-0572 in the Washington, DC area), code 3014512513. Please call the Information Line for up-to-date information on this meeting.

Dated: October 27, 2009.
David Horowitz,
Assistant Commissioner for Policy.

[FR Doc. E9-26261 Filed 10-30-09; 8:45 am]

BILLING CODE 4160-01-S